ENVIRONMENTAL PROTECTION AGENCY

40 CFR Part 52

[EPA-R03-OAR-2011-0509; FRL-9453-7]

Approval and Promulgation of Air Quality Implementation Plans; Pennsylvania; Adoption of Control Techniques Guidelines for Large Appliance and Metal Furniture Coatings

AGENCY: Environmental Protection Agency (EPA).

ACTION: Direct final rule.

SUMMARY: EPA is taking direct final action to approve a State Implementation Plan (SIP) revision submitted by the Pennsylvania Department of the Environmental Protection (PADEP). This SIP revision includes amendments to the Commonwealth of Pennsylvania's regulation 25 Pa. Code Chapter 129 (relating to standards for sources) and meets the requirement to adopt Reasonably Available Control Technology (RACT) for sources covered by EPA's Control Techniques Guidelines (CTG) standards for large appliance and metal furniture coatings. These amendments will reduce emissions of volatile organic compound (VOC) emissions from large appliance and metal furniture coating facilities. Therefore, this revision will help the Commonwealth of Pennsylvania attain and maintain the national ambient air quality standard (NAAQS) for ozone. This action is being taken under the Clean Air Act (CAA).

DATES: This rule is effective on October 24, 2011 without further notice, unless EPA receives adverse written comment by September 23, 2011. If EPA receives such comments, it will publish a timely withdrawal of the direct final rule in the Federal Register and inform the public that the rule will not take effect.

ADDRESSES: Submit your comments, identified by Docket ID Number EPA-R03-OAR-2011-0509, by one of the following methods:

A. http://www.regulations.gov. Follow the on-line instructions for submitting comments.

B. E-mail: fernandez.cristina@epa.gov.

C. Mail: EPA-R03-OAR-2011-0509, Cristina Fernandez, Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2011-0509. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an anonymous access system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103. Copies of the State submittal are available at the Pennsylvania Department of Environmental Protection, Bureau of Air Quality Control, P.O. Box 8468, 400 Market Street, Harrisburg, Pennsylvania 17105.

FOR FURTHER INFORMATION CONTACT: Gregory Becoat, (215) 814-2036, or by e-mail at becoat.gregory@epa.gov.

SUPPLEMENTARY INFORMATION: On October 1, 2010, PADEP submitted to EPA a SIP revision concerning the adoption of the EPA CTGs for large appliance and metal furniture coating processes.

I. Background

Section 172(c)(1) of the CAA provides that SIPs for nonattainment areas must include reasonably available control measures (RACM), including RACT, for sources of emissions. Section 182(b)(2)(A) provides that for certain nonattainment areas, States must revise their SIPs to include RACT for sources of VOC emissions covered by a CTG document issued after November 15, 1990 and prior to the area's date of attainment.

EPA defines RACT as “the lowest emission limitation that a particular source is capable of meeting by the application of control technology that is reasonably available considering technological and economic feasibility.” (44 FR 53761, September 17, 1979). In subsequent Federal Register notices, EPA has addressed how states can meet the RACT requirements of the CAA.

CTGs are intended to provide state and local air pollution control authorities information that should assist them in determining RACT for VOCs from various sources, including large appliance coatings and metal furniture coatings. In developing these CTGs, EPA, among other things, evaluated the sources of VOC emissions from this industry and the available control approaches for addressing these emissions, including the costs of such approaches. Based on available information and data, EPA provides recommendations for RACT for VOCs from large appliance coatings and metal furniture coatings.

In December 1977, EPA published CTGs for large appliance coatings (EPA-450/2-77-034) and surface coating of metal furniture (EPA-450/2-77-032). These CTGs discuss the nature of VOC emissions from these industries, available control technologies for addressing such emissions, the costs of available control options, and other items. EPA promulgated national standards of performance for new stationary sources (NSPS) for large appliance coatings in 1982 (40 CFR part 60, subpart SS) and surface coating of metal furniture in 1982 (40 CFR part 60, subpart EE). The NSPS requires VOC emissions limits based on VOC content of low VOC coating materials. EPA also published a national emission standard for hazardous air pollutants (NESHAP) for large appliance coatings in 2002 (40 CFR part 63, subpart NNNN) and surface coating of metal furniture in 2003 (40 CFR part 63, subpart RRRR). The NESHAP establishes national emission standards for hazardous air pollutants and emissions limits based on the organic hazardous air pollutants (HAP) content of low organic HAP coating materials.

In 2006 and 2007, after conducting a review of currently existing state and local VOC emission reduction approaches for these industries, reviewing the 1977/1978 CTGs and the NESHAPs for these industries, and taking into account the information that has become available since then, EPA developed new CTGs for surface coating of large appliances, entitled Control Techniques Guidelines for Large Appliance Coatings (Publication No. EPA 453/R-07-004; September 2007) and surface coating of metal furniture, entitled Control Techniques Guidelines for Metal Furniture Coatings (Publication No. EPA 453/R-07-005; September 2007).

Large appliance coatings include, but are not limited to, materials referred to as paint, topcoats, basecoats, primers, enamels, and adhesives used in the manufacture of large appliance parts or products. Coatings are a critical constituent to the large appliance industry. The metal furniture coatings product category includes the coatings that are applied to the surfaces of metal furniture. Metal furniture coatings serve decorative, protective, and functional purposes. VOC emissions from large appliance and metal furniture surface coating processes result from the evaporation of the components of the coatings and cleaning materials.

II. Summary of SIP Revision

On October 1, 2010, PADEP submitted to EPA a SIP revision concerning the adoption of the EPA CTGs for large appliance and metal furniture coatings. EPA develops CTGs as guidance on control requirements for source categories. States can follow the CTGs or adopt more restrictive standards. PADEP amended existing regulations at 25 Pa. Code sections 129.51 and 129.52 (relating to general and surface coating processes) and added section 129.52(a) (relating to control of VOC emissions from large appliance and metal furniture surface coating processes) in order to control VOC emissions from large appliance and metal furniture surface coating processes. This action affects sources that use large appliance and metal furniture surface coating processes in the Commonwealth of Pennsylvania.

Regulation, section 129.51(a), entitled “Equivalency” includes large appliance and metal furniture surface coating processes and provides an alternative method for owners and operators of facilities to achieve compliance with air emission limits. Regulation, section 129.52, entitled “Surface coating processes” specifies the requirements and emission limits for various surface coating processes. Section 129.52 also establishes that the requirements and limits for metal furniture coatings and large appliance coatings already specified in this section are superseded by the requirements and limits in section 129.52(a) (relating to control of VOC emissions from large appliance and metal furniture surface coating processes). New regulation, section 129.52(a), entitled “Control of VOC emissions from large appliance and metal furniture surface coating processes” establishes the following emissions limits of VOCs for large appliance and metal surface coatings shown in Tables 1 and 2.

Table 1—Emission Limits of VOCs for Large Appliance Surface Coatings
[Weight of VOC per volume of coating solids, as applied]
Coating type | Baked: Kilograms per liter (kg/l) | Baked: Pounds per gallon (lb/gal) | Air dried: kg/l | Air dried: lb/gal
General, One Component | 0.40 | 3.34 | 0.40 | 3.34
General, Multi-Component | 0.40 | 3.34 | 0.55 | 4.62
Extreme High Gloss | 0.55 | 4.62 | 0.55 | 4.62
Extreme Performance | 0.55 | 4.62 | 0.55 | 4.62
Heat Resistant | 0.55 | 4.62 | 0.55 | 4.62
Metallic | 0.55 | 4.62 | 0.55 | 4.62
Pretreatment | 0.55 | 4.62 | 0.55 | 4.62
Solar Absorbent | 0.55 | 4.62 | 0.55 | 4.62

Table 2—Emission Limits of VOCs for Metal Furniture Surface Coatings
[Weight of VOC per volume of coating solids, as applied]
Coating type | Baked: kg/l | Baked: lb/gal | Air dried: kg/l | Air dried: lb/gal
General, One Component | 0.40 | 3.34 | 0.40 | 3.34
General, Multi-Component | 0.40 | 3.34 | 0.55 | 4.62
Extreme High Gloss | 0.61 | 5.06 | 0.55 | 4.62
Extreme Performance | 0.61 | 5.06 | 0.61 | 5.06
Heat Resistant | 0.61 | 5.06 | 0.61 | 5.06
Metallic | 0.61 | 5.06 | 0.61 | 5.06
Pretreatment | 0.61 | 5.06 | 0.61 | 5.06
Solar Absorbent | 0.61 | 5.06 | 0.61 | 5.06

The emission limits in Tables 1 and 2 provide consistency in the number of significant digits. The emission limit of 3.3 lb/gal was revised to 3.34 lb/gal in the Baked—“General, One Component” and “General, Multi-Component” and in the Air Dried—“General, One Component” coatings. The 4.62 lb/gal emission limit in the Air Dried—“General, Multi-Component” and “Extreme High Gloss” coatings provides consistency with the limit in section 129.52. Although the 4.62 lb/gal emission limit is greater than the 4.5 lb/gal emission limit recommended in the CTGs, the difference is due to different methodologies used for rounding during the conversion from metric units to English units. However, the emission reduction that will be achieved is equivalent. Further details of Tables 1 and 2 can be found in a Technical Support Document (TSD) prepared for this rulemaking. Additionally, the regulation establishes applicability, limitations, exempt solvents, application techniques, and work practices.

III. Final Action

Pennsylvania's October 1, 2010 SIP revision meets the CAA requirement to include RACT for sources covered by the EPA CTGs for the large appliance and metal furniture coating processes. Therefore, EPA is approving the Pennsylvania SIP revision for adoption of the CTG standards for large appliance and metal furniture coating processes. EPA is publishing this rule without prior proposal because EPA views this as a noncontroversial amendment and anticipates no adverse comment. However, in the Proposed Rules section of today's Federal Register, EPA is publishing a separate document that will serve as the proposal to approve the SIP revision if adverse comments are filed. This rule will be effective on October 24, 2011 without further notice unless EPA receives adverse comment by September 23, 2011. If EPA receives adverse comment, EPA will publish a timely withdrawal in the Federal Register informing the public that the rule will not take effect. EPA will address all public comments in a subsequent final rule based on the proposed rule. EPA will not institute a second comment period on this action. Any parties interested in commenting must do so at this time.

IV. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the Clean Air Act, petitions for judicial review of this action must be filed in the United States Court of Appeals for the appropriate circuit by October 24, 2011. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action pertaining to Pennsylvania's adoption of the CTG standards for large appliance and metal furniture coating processes may not be challenged later in proceedings to enforce its requirements. (See CAA section 307(b)(2).)

List of Subjects in 40 CFR Part 52

Environmental protection, Air pollution control, Incorporation by reference, Ozone, Reporting and recordkeeping requirements, Volatile organic compounds.

Dated: August 3, 2011.
W.C. Early,
Acting Regional Administrator, Region III.

40 CFR part 52 is amended as follows:

PART 52—[AMENDED]

1. The authority citation for part 52 continues to read as follows:

Authority: 42 U.S.C. 7401 et seq.

Subpart NN—Pennsylvania

2. In § 52.2020, the table in paragraph (c)(1) is amended by revising the entries for Sections 129.51 and 129.52, and adding an entry for Section 129.52a. The amendments read as follows:

§ 52.2020 Identification of plan.

* * * * *

(c) * * *

(1) * * *

State citation | Title/subject | State effective date | EPA approval date | Additional explanation § 52.2063 citation
Title 25—Environmental Protection
Article III—Air Resources
* * * * * * *
Chapter 129—Standards for Sources
| * * * * * * *
Sources of VOCs
| * * * * * * *
Section 129.51 | General | 12/18/10 | 8/24/2011 [Insert page number where the document begins] | Paragraph 129.51(a) is amended. The State effective date is 9/11/10.
Section 129.52 | Surface coating processes | 11/20/10 | 8/24/2011 [Insert page number where the document begins] | Paragraph 129.52(i) is added. The State effective date is 9/11/10.
Section 129.52a | Control of VOC emissions from large appliance and metal furniture surface coating processes | 9/11/10 | 8/24/2011 [Insert page number where the document begins] | New section is added.
* * * * * * *

* * * * *

[FR Doc. 2011-21362 Filed 8-23-11; 8:45 am]

BILLING CODE 6560-50-P